CONSUMER PRODUCT SAFETY COMMISSION

[CPSC Docket No. 13-1]

Notice of Second Prehearing Conference

AGENCY: U.S. Consumer Product Safety Commission.

ACTION: Notice.

SUMMARY: Notice of the second prehearing conference for the case: In the Matter of BABY MATTERS LLC, CPSC Docket No.13-1.

DATES: May 23, 2013, 11:00 a.m. Eastern.

ADDRESSES: Members of the public are welcome to attend the prehearing conference to be held at the Alexander Hamilton U.S. Customs House, One Bowling Green, Room 302 (U.S. Coast Guard Hearing Room), New York, New York 10004.

FOR FURTHER INFORMATION CONTACT: Regina Maye, Paralegal Specialist, U.S. Coast Guard ALJ Program, (212) 825-1230.

SUPPLEMENTARY INFORMATION: The purpose of this prehearing conference is to address the remaining items listed in the Final Pre-Hearing Order that were left unresolved at the time this matter was stayed.

Telephonic conferencing arrangements for the parties will be made by the court. Mary B. Murphy, Esq., Kelly Moore, Esq. and Daniel Vice, Esq., Counsel for the U.S. Consumer Product Safety Commission; Raymond G. Mullady, Jr., Esq. and Adrien C. Pickard, Esq. of BLANK ROME, LLP, Counsel for BABY MATTERS LLC; and, Larry W. Bennett, Esq. and Geoffrey S. Wagner, Esq., of GIARMARCO, MULLINS & HORTON, PC, shall be provided with a phone number and passcode in a separate notice of pre-hearing conference so they may participate telephonically if they so choose.

Authority: Consumer Product Safety Act, 15 U.S.C. 2064.

Dated: May 8, 2013.
Todd A. Stevenson,
Secretary.

[FR Doc. 2013-11335 Filed 5-13-13; 8:45 am]

BILLING CODE 6355-01-P